DEPARTMENT OF JUSTICE

Antitrust Division

Notice Pursuant to the National Cooperative Research and Production Act of 1993—The Frame Relay Forum

Notice is hereby given that, on April 27, 2000, pursuant to Section 6(a) of the National Cooperative Research and Production Act of 1993, 15 U.S.C. 4301 et seq. (“the Act”), The Frame Relay Forum (FRF) has filed written notifications simultaneously with the Attorney General and the Federal Trade Commission disclosing changes in its membership status. The notifications were filed for the purpose of extending the Act's provisions limiting the recovery of antitrust plaintiffs to actual damages under specified circumstances. Specifically, Expand Networks, Langhorne, PA has joined FRF as a worldwide member. Cable & Wireless Jamaica, Kingston, JAMAICA has joined FRF as an affiliate member. Krawutschke Consulting & Management, Durmersheim, GERMANY has joined FRF as an auditing member. Digital Link Corporation, Sunnyvale, CA has changed its name to Quick Eagle Networks, Sunnyvale, CA. Also, Accesslan Communications, San Jose, CA; Agilent Technologies, Colorado Springs, CO; Ameritech Services, Hoffman Estates, IL; Assured Access Technology, Milpitas, CA; BellSouth Telecommunications, Birmingham, AL; CSELT, Torino, ITALY; e.spire Communications, Annapolis Junction, MD; Hi/fm, Carlsbad, CA; Hughes Network Systems, Germantown, MD; Make Systems, Cary, NC; Maker Communications, Framingham, MA; Netcom Systems, Chatsworth, CA; Nokia Telecommunications, Burlington, MA; Nortel DASA, Friedrichshafen, GERMANY; Nuera Communications, San Diego, CA; o.tel.o, Koeln, GERMANY, Seabridge, Hod Hasharon, ISRAEL; Scitec Communications Systems, Sydney, AUSTRALIA; Telcordia Technologies, Morristown, NJ; Teldat, Madrid, SPAIN; and TimePlex Group, Woodcliff Lake, NJ have been dropped as parties to this venture.

No other changes have been made in either the membership or planned activity of the group research project. Membership in this group research project remains open, and The Frame Relay Forum intends to file additional written notification disclosing all changes in membership.

On April 10, 1992, The Frame Relay Forum filed its original notification pursuant to Section 6(a) of the Act. The Department of Justice published a notice in the Federal Register pursuant to Section 6(b) of the Act on July 2, 1992 (57 FR 29537).

The last notification was filed with the Department on December 8, 1999. A notice was published in the Federal Register pursuant to Section 6(b) of the Act on April 28, 2000 (54 FR 24985).

Constance K. Robinson,
Director of Operations, Antitrust Division.

[FR Doc. 00-20150 Filed 8-8-00; 8:45 am]

BILLING CODE 4410-11-M